NATIONAL SCIENCE FOUNDATION

Proposal Review Panel for Physics; Notice of Meeting

In accordance with the Federal Advisory Committee Act (Pub. L. 92-463, as amended), the National Science Foundation (NSF) announces the following meeting:

Name and Committee Code: Virtual Site Review of construction progress of the CMS High Luminosity Detector Upgrade (1208).

Date and Time: August 25, 2021; 10:30 a.m.—6:30 p.m. EDT.

Place: Cornell University, 109 Clark Hall, Ithaca, New York 14853-250110027 | Virtual Site Visit via Zoom.

Type of Meeting: Part-Open.

Contact Person: Mark Coles, Program Director, Division of Physics, National Science Foundation, 2415 Eisenhower Avenue., Room 9219, Alexandria, VA 22314; Telephone: (703) 292-4432.

Purpose of Meeting: Virtual site visit to provide an evaluation of the progress of the project at the host site for the Division of Physics at the National Science Foundation.

Agenda: NSF will provide the Zoom coordinates for each meeting (All times are Eastern Daylight Time (EDT)).

August 25, 2021

10:30 a.m.-11:00 a.m. Executive Session (Closed)

11:00 a.m.-5:00 p.m. Presentations on the CMS upgrade (Open)

5:00 p.m.-6:00 p.m. Executive Session (Closed)

6:00 p.m.-6:30 p.m. Closeout presentation by Review Panel (Open)

Reason for Closing: The work being reviewed during closed portions of the virtual site visit include information of a proprietary or confidential nature, including technical information; financial data, such as salaries and personal information concerning individuals associated with the project. These matters are exempt under 5 U.S.C. 552b(c), (4) and (6) of the Government in the Sunshine Act.

Dated: June 24, 2021.
Crystal Robinson,
Committee Management Officer.

[FR Doc. 2021-13858 Filed 6-28-21; 8:45 am]

BILLING CODE 7555-01-P